DEPARTMENT OF ENERGY

Federal Energy Regulatory Commission

[Docket No. AD21-11-000]

Reliability Technical Conference; Supplemental Notice of Technical Conference

As announced in the Notice of Technical Conference and the Supplemental Notice of Technical Conference issued in this proceeding on March 5, 2021 and August 6, 2021 respectively, the Federal Energy Regulatory Commission (Commission) will convene its annual Commissioner-led Reliability Technical Conference on Thursday, September 30, 2021 from approximately 8:30 a.m. to 5:00 p.m. Eastern time. The purpose of this conference is to discuss policy issues related to the reliability of the Bulk-Power System. The conference will be held virtually via WebEx.

The final agenda with confirmed speakers for this event is attached. The conference will be open for the public to attend virtually, and there is no fee for attendance. Information on the technical conference will also be posted on the Calendar of Events on the Commission's website, http://www.ferc.gov, prior to the event. The conference will be transcribed. Transcripts of the conference will be available for a fee from Ace-Federal Reporters, Inc. (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact Lodie White at Lodie.White@ferc.gov or (202) 502-8453. For information related to logistics, please contact Sarah McKinley at Sarah.Mckinley@ferc.gov or (202) 502-8368.

Dated: September 24, 2021.
Kimberly D. Bose,
Secretary.

[FR Doc. 2021-21266 Filed 9-29-21; 8:45 am]

BILLING CODE 6717-01-P